DEPARTMENT OF THE INTERIOR

Bureau of Land Management

[LLIDC00000.14XL1109AF.L10200000.DS0000.LXSSD0090000.241A; 4500061279]

Notice of Availability of the Draft Cottonwood Resource Management Plan Amendment for Domestic Sheep Grazing and Supplemental Environmental Impact Statement, Idaho

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) Amendment for Domestic Sheep Grazing and Supplemental Environmental Impact Statement (EIS) and by this notice is announcing the opening of the comment period.

DATES: To ensure that comments will be considered, the BLM must receive written comments on the Draft RMP Amendment/Supplemental EIS within 90 days following the date the Environmental Protection Agency publishes a notice of availability of this document in the Federal Register. The BLM will announce future meetings or hearings and any other public participation activities at least 15 days in advance through public notices, media releases, and/or mailings.

ADDRESSES: You may submit comments related to the Draft RMP Amendment and Supplemental EIS by any of the following methods:

• Web site: http://www.blm.gov/id/st/en/prog/nepa_register/cfo_SEIS-plan-amdt-sheep.html.

• Email: BLM_ID_SheepSEIS@blm.gov.

• Mail: BLM Coeur d'Alene District, ATTN: Sheep SEIS, 3815 Schreiber Way, Coeur d'Alene, ID 83815.

The Draft RMP Amendment and Supplemental EIS is available on the project Web site at http://www.blm.gov/id/st/en/prog/nepa_register/cfo_SEIS-plan-amdt-sheep.html, in the BLM Coeur d'Alene District Office at the above address, and at the BLM Cottonwood Field Office, One Butte Drive, Cottonwood, ID 83522.

FOR FURTHER INFORMATION CONTACT: Scott Pavey, telephone 208-769-5059, BLM Coeur d'Alene District Office (address above); email: BLM_ID_SheepSEIS@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM proposes to amend the 2008 Cottonwood RMP by providing new management direction and allocations for livestock grazing on 19,405 acres of BLM-managed lands within 4 BLM allotments in Idaho and Adams Counties of Idaho.

In August 2008, the BLM published the Proposed Cottonwood RMP and Final EIS and subsequently received a number of protests on the proposed decision. The BLM Director denied all protest points but one, which was in regard to the adequacy of the range of alternatives for management of domestic sheep grazing on four BLM allotments that are within bighorn sheep habitat. Specifically, the Director found that the Final EIS did not include an adequate range of alternatives to address potential disease transmission from domestic sheep and goats to bighorn sheep, and required that the State Director complete a supplemental EIS that would include a reasonable range of alternatives for managing livestock grazing and would analyze the impacts of domestic sheep and goat grazing within the four allotments. The Director further specified that the supplemental EIS be for the limited purpose of analyzing the impacts of domestic sheep and goat grazing within four allotments.

The Supplemental EIS identifies and analyzes three related planning issues:

(1) Bighorn sheep—Domestic sheep and goats may contact and transmit diseases to bighorn sheep, which may be a contributing factor to the downward trend in bighorn populations.

(2) Native American tribal interests and treaty rights—BLM management of livestock grazing, specifically domestic sheep and goats, may affect the availability of resources and uses (specifically related to bighorn sheep) that are important to the interests and rights of the Nez Perce Tribe.

(3) Livestock grazing and social and economic interests—Changes to BLM management of livestock grazing may affect the local economy.

Please note that public comments and information submitted including names, street addresses, and email addresses of persons who submit comments will be available for public review and disclosure at the above address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Will Runnoe,
Cottonwood Field Manager.

[FR Doc. 2014-10507 Filed 5-8-14; 8:45 am]

BILLING CODE 4310-GG-P